DEPARTMENT OF ENERGY

Federal Energy Regulatory Commission

Combined Notice of Filings

Take notice that the Commission has received the following Natural Gas Pipeline Rate and Refund Report filings:

Filings Instituting Proceedings

Docket Numbers: PR16-29-000.

Applicants: Columbia Gas of Ohio, Inc.

Description: Tariff filing per 284.123(b)(1)/.: COH SOC Effective 3-1-2016 to be effective 3/1/2016; Filing Type: 980.

Filed Date: 2/29/16.

Accession Number: 201602295251.

Comments/Protests Due: 5 p.m. ET 3/14/16.

Docket Numbers: PR16-30-000.

Applicants: Public Service Company of Colorado.

Description: Tariff filing per 284.123(e)/.224: PSCo Statement of Changes Nom to be effective 4/1/2016; Filing Type: 770.

Filed Date: 2/29/16.

Accession Number: 201602295373.

Comments/Protests Due: 5 p.m. ET 3/21/16.

Docket Numbers: PR16-31-000.

Applicants: Enable Oklahoma Intrastate Transmission, LLC.

Description: Tariff filing per 284.123(e) + (g): Enable Revised Fuel Percentages April 1, 2016 through March 31, 2017 to be effective 4/1/2016; Filing Type: 1280.

Filed Date: 2/29/16.

Accession Number: 201602295387.

Comments Due: 5 p.m. ET 3/21/16.

284.123(g) Protests Due: 5 p.m. ET 4/29/16.

Docket Numbers: PR15-1-001.

Applicants: Washington Gas Light Company.

Description: Tariff filing per 284.123(b)(1),: Washington Gas Light Company LAUF Adjustment in Docket PR15-5 to be effective 2/1/2016; Filing Type: 1000.

Filed Date: 3/1/16.

Accession Number: 201603015247.

Comments/Protests Due: 5 p.m. ET 3/15/16.

Docket Numbers: PR16-12-002.

Applicants: Columbia Gas of Maryland, Inc.

Description: Tariff filing per 284.123(b)(1): CMD SOC Amended PR16-12-002 to be effective 1/1/2015; Filing Type: 1000.

Filed Date: 3/2/16.

Accession Number: 201603025154.

Comments/Protests Due: 5 p.m. ET 3/17/16.

Docket Numbers: PR16-12-003.

Applicants: Columbia Gas of Maryland, Inc.

Description: Tariff filing per 284.123(b)(1),: CMD SOC effective 11-5-2015 to be effective 11/5/2015; Filing Type: 1000.

Filed Date: 3/3/16.

Accession Number: 201603035148.

Comments/Protests Due: 5 p.m. ET 3/17/16.

Docket Numbers: RP16-708-000.

Applicants: High Point Gas Transmission, LLC.

Description: Annual Unaccounted for Gas Retention Filing of High Point Gas Transmission, LLC.

Filed Date: 3/1/16.

Accession Number: 20160301-5509.

Comments Due: 5 p.m. ET 3/14/16.

Docket Numbers: RP16-709-000.

Applicants: Gulf Crossing Pipeline Company LLC.

Description: Section 4(d) Rate Filing: Cap Rel Neg Rate Agmt (Newfield 18 to BP 1755) to be effective 3/1/2016.

Filed Date: 3/2/16.

Accession Number: 20160302-5086.

Comments Due: 5 p.m. ET 3/14/16.

Docket Numbers: RP16-710-000.

Applicants: Alliance Pipeline L.P.

Description: Section 4(d) Rate Filing: Seasonal Service April-October 2016 to be effective 4/1/2016.

Filed Date: 3/2/16.

Accession Number: 20160302-5150.

Comments Due: 5 p.m. ET 3/14/16.

Docket Numbers: RP16-711-000.

Applicants: Enable Mississippi River Transmission, L.

Description: Section 4(d) Rate Filing: Negotiated Rate Filing to Amend LER 5680's Attachment A_3_2_16 to be effective 3/2/2016.

Filed Date: 3/2/16.

Accession Number: 20160302-5165.

Comments Due: 5 p.m. ET 3/14/16.

Docket Numbers: RP16-712-000.

Applicants: Sabine Pipe Line LLC.

Description: Section 4(d) Rate Filing: Sabine Fuel Filing to be effective 4/1/2016.

Filed Date: 3/2/16.

Accession Number: 20160302-5194.

Comments Due: 5 p.m. ET 3/14/16.

Docket Numbers: RP16-713-000.

Applicants: Columbia Gulf Transmission, LLC.

Description: Section 4(d) Rate Filing: Negotiated Rate Service Agreement—Kaiser to be effective 4/1/2016.

Filed Date: 3/2/16.

Accession Number: 20160302-5195.

Comments Due: 5 p.m. ET 3/14/16.

Docket Numbers: RP16-714-000.

Applicants: Monroe Gas Storage Company, LLC.

Description: Section 4(d) Rate Filing: MGS—Clean up to be effective 3/3/2016.

Filed Date: 3/3/16.

Accession Number: 20160303-5127.

Comments Due: 5 p.m. ET 3/15/16.

Docket Numbers: RP16-715-000.

Applicants: Empire Pipeline, Inc.

Description: Section 4(d) Rate Filing: Fuel Tracker—Empire to be effective 4/1/2016.

Filed Date: 3/4/16.

Accession Number: 20160304-5245.

Comments Due: 5 p.m. ET 3/16/16.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP16-184-002.

Applicants: Cameron Interstate Pipeline, LLC.

Description: Compliance filing Cameron Interstate Pipeline FERC January 19, 2016 Order Compliance Filing to be effective 3/1/2016.

Filed Date: 3/2/16.

Accession Number: 20160302-5115.

Comments Due: 5 p.m. ET 3/14/16.

Docket Numbers: RP16-131-001.

Applicants: Gulf South Pipeline Company, LP.

Description: Compliance filing Compliance Filing in Docket No. RP16-131-000 (Establish Fuel Tracker) to be effective 4/1/2016.

Filed Date: 3/4/16.

Accession Number: 20160304-5084.

Comments Due: 5 p.m. ET 3/16/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2016.
Nathaniel J. Davis, Sr.,
Deputy Secretary.

[FR Doc. 2016-05503 Filed 3-10-16; 8:45 am]

BILLING CODE 6717-01-P